DEPARTMENT OF TRANSPORTATION

Federal Aviation Administration

Fifty-Second Meeting: RTCA Special Committee 186: Automatic Dependent Surveillance—Broadcast (ADS-B)

AGENCY: Federal Aviation Administration (FAA), DOT.

ACTION: Notice of RTCA Special Committee 186: Automatic Dependent Surveillance—Broadcast (ADS-B) meeting.

SUMMARY: The FAA is issuing this notice to advise the public of a meeting of RTCA Special Committee 186: Automatic Dependent Surveillance—Broadcast (ADS-B).

DATES: The meeting will be held September 20-24, 2010 from 8 a.m. on September 24th (at RTCA)/9 a.m. (NLR) on the other days unless stated otherwise.

ADDRESSES: The meeting will be held at the Dutch National Aerospace Laboratory (NLR) Anthony Fokkerweg 2, 1059 CM Amsterdam and RTCA Conference Rooms at 1828 L Street, NW., Suite 805, Washington, DC 20036.

FOR FURTHER INFORMATION CONTACT: (1) RTCA Secretariat, 1828 L Street, NW., Suite 805, Washington, DC 20036, (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 186: Automatic Dependent Surveillance—Broadcast (ADS-B) meeting. The agenda will include:

Specific Working Group Sessions

Monday, September 20

• NLR—All Day, Requirements Focus Group (RFG)

• NLR—All Day, WG-4, Application Technical Requirements

Tuesday, September 21

• NLR—All Day, Requirements Focus Group (RFG)

• NLR—All Day, WG-4, Application Technical Requirements

Wednesday, September 22

• NLR—All Day, Requirements Focus Group (RFG)

• NLR—All Day, WG-4, Application Technical Requirements, Colson Board Room

Thursday, September 23

• NLR—All Day, Requirements Focus Group (RFG)

• NLR—All Day, WG-4, Application Technical Requirements, Colson Board Room

Friday, September 24

• NLR & RTCA

Plenary Session—See Agenda Below

Joint RTCA SC-186/EUROCAE WG-51

Agenda—Plenary Session—Agenda

September 24, 2010

Two Locations:

Primary—NLR—Amsterdam; RTCA—Washington, DC—MacIntosh-NBAA Room & Hilton-ATA Room; Starting at 8 a.m. at RTCA and 2 p.m. in Europe for Agenda Items 4 & 6

(WebEx and Phone Bridge information to be provided upon request)

• Chairman's Introductory Remarks, Review of Meeting Agenda.

• Review/Approval of the Fifty-First Meeting Summary, RTCA Paper No. 089-10/SC186-298.

• Consider for Approval—New Document—Safety, Performance and Interoperability Requirements Document for ADS-B Airport Surface Surveillance Application (ADS-B-APT), RTCA Paper No. 132-10/SC-186-301.

• Consider for Approval—New Document—Safety, Performance and Interoperability Requirements Document for ATSA-SURF Application, RTCA Paper No. 111-10/SC186-299.

• Consider for Approval—New Document—Safety, Performance and Interoperability Requirements Document for Enhanced Traffic Situational Awareness on the Airport Surface with Indications and Alerts, RTCA Paper No. 120-10/SC186-300.

• FAA Surveillance and Broadcast Services (SBS) Program—Status.

• Review of EUROCAE WG-51 Activities.

• Date, Place and Time of Next Meeting.

• Working Group Reports.

• WG-1—Operations and Implementation

• WG-2—TIS-B MASPS

• WG-3—1,090 MHz MOPS

• WG-4—Application Technical Requirements

• WG-5—UAT MOPS

• WG-6—ADS-B MASPS

• RFG—Requirements Focus Group

• ADS-B IM Coordination with SC-214 for Data Link Requirements—Discussion—Status

• Revised Terms of Reference (TOR)—Discussion—Review/Approval

• New Business.

• Other Business.

• Review Action Items/Work Programs.

• Adjourn Plenary.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on August 24, 2010.
Robert L. Bostiga,
RTCA Advisory Committee.

[FR Doc. 2010-21927 Filed 9-1-10; 8:45 am]

BILLING CODE 4910-13-P